DEPARTMENT OF TRANSPORTATION

Federal Highway Administration

[Docket No. FHWA 2023-0003]

Agency Information Collection Activities: Notice of Request for New Information Collection

AGENCY: Federal Highway Administration (FHWA), DOT.

ACTION: Notice and request for comments.

SUMMARY: The FHWA invites public comments about our intention to request the Office of Management and Budget's (OMB) approval to submit one information collection, which is summarized below under SUPPLEMENTARY INFORMATION. We are required to publish this notice in the Federal Register by the Paperwork Reduction Act of 1995.

DATES: Please submit comments by March 10, 2023.

ADDRESSES: You may submit comments identified by Docket ID FHWA 2023-0003 by any of the following methods:

Website: For access to the docket to read background documents or comments received go to the Federal eRulemaking Portal: Go to http://www.regulations.gov. Follow the online instructions for submitting comments.

Fax: 1-202-493-2251.

Mail: Docket Management Facility, U.S. Department of Transportation, West Building, Ground Floor, Room W12-140, 1200 New Jersey Avenue SE, Washington, DC 20590-0001.

Hand Delivery or Courier: U.S. Department of Transportation, West Building Ground Floor, Room W12-140, 1200 New Jersey Avenue SE, Washington, DC 20590, between 9 a.m. and 5 p.m. ET, Monday through Friday, except Federal holidays.

SUPPLEMENTARY INFORMATION:

Title: Disadvantaged Business Enterprise Supportive Services (DBE/SS) Statement of Work Template.

Summary: The DBE/SS regulations (23 CFR 230.204 (c)) require State DOT recipients to provide a detailed SOW outlining the proposed services and budget, approximated, based on the provided estimated funding allocation. State DOTs must submit a SOW that conforms to the purpose of the program, regulatory requirements, and federal cost principles to be eligible for funding. State DOTs send their proposed SOWs to the respective FHWA Division Office for review and approval, and the Division Offices sends the SOWs to HCR for concurrence and obtaining approvals necessary for allocating funds.

While HCR has created guidance for State DOTs to follow in creating their SOWs, currently are submitted in paper form and the contents and size of the submissions vary. Providing State DOTs with a SOW template available through the Civil Rights Connect System will streamline the SOW creation, submission, review, and approval process.

The information required to populate the DBE/SS SOW template is based on existing requirements found in 23 CFR 230, Subpart C; therefore, State DOTs should have information to populate the SOW readily available. The information will merely be entered in an electronic fillable form as opposed to submitting a paper copy. The electronic system will also directly pre-populate the State's Annual Accomplishment Report with the metrices identified in the State's SOW. This feature further streamlines the reporting process by eliminating the States' need to duplicate language from the SOW into the Annual Report. This feature will also allow HCR to more easily pair the performance metrics with their accomplishments in reviewing the State's Annual DBE/SS Report.

While the requirements will not change, use of the SOW template will benefit State DOTs and FHWA by making the submissions more uniform in size and content and streamlining the submission and review process. This will ultimately allow HCR to allocate funding in a more timely manner that will directly benefit DBEs, an important piece of the Department's and FHWA's equity initiative.

Respondents: State Departments of Transportation Agencies responsible submitting DBE Statement of Work for designing and maintaining highway bridges.

Frequency: Every year by July 31st.

Estimated Average Burden per Response: The estimated number of hours for each of the 52 recipients to compile and submit the requested data is estimated to be no more than four employee hours annually.

Estimated Total Annual Burden Hours: The estimated total annual burden for 53 recipients is 212 hours annually.

FOR FURTHER INFORMATION CONTACT: Janelle Hinton, (202) 366-1604/janelle.hinton@dot.gov; Martha Kenley, 202-604-6879/martha.kenley@dot.gov, Department of Transportation, Federal Highway Administration, Office of Civil Rights, 1200 New Jersey Avenue SE, Washington, DC 20590. Office hours are from 8 a.m. to 5 p.m., Monday through Friday, except Federal holidays.

Public Comments Invited

You are asked to comment on any aspect of these information collections, including: (1) Whether the proposed collections are necessary for the FHWA's performance; (2) the accuracy of the estimated burdens; (3) ways for the FHWA to enhance the quality, usefulness, and clarity of the collected information; and (4) ways that the burdens could be minimized, including use of electronic technology, without reducing the quality of the collected information. The agency will summarize and/or include your comments in the request for OMB's clearance of these information collections.

Authority: The Paperwork Reduction Act of 1995; 44 U.S.C. Ch. 35, as amended; and 49 CFR 1.48.

Issued On: February 3, 2023.
Michael Howell,
Information Collection Officer.

[FR Doc. 2023-02640 Filed 2-7-23; 8:45 am]

BILLING CODE 4910-RY-P